GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/PPFM-1

SYSTEM NAME:

Disbursement and Accounts Payable Files.

SYSTEM LOCATION:

System records are located in GSA's finance centers and other locations as follows:

• Heartland Finance Center, 1500 East Bannister Road, Kansas City, MO 64131.

• Greater Southwest Finance Center, 819 Taylor Street, Fort Worth, TX 76102.

• Office of the Chief Financial Officer, 1800 F Street, NW., Washington, DC 20405.

• Service and Staff Offices throughout GSA.

CATEGORIES OF INDIVIDUALS COVERED BY THE SYSTEM:

GSA employees; contractors and contractual or appointed experts and consultants.

CATEGORIES OF RECORDS IN THE SYSTEM:

The system provides for reporting each account's status. Records may include but are not limited to name, address, telephone number, vendor identification number, banking information and Social Security number.

AUTHORITY FOR MAINTENANCE OF THE SYSTEM:

31 U.S.C. 3501 et seq.; 40 U.S.C. 311; 5 U.S.C. 3109.

PURPOSE:

To assemble in one system disbursement and accounts payable records to GSA employees, contractors and other experts and consultants procured by contract or by appointment.

ROUTINE USES OF THE SYSTEM RECORDS, INCLUDING CATEGORIES OF USERS AND THEIR PURPOSE FOR USING THE SYSTEM:

To the extent necessary, the records are available outside GSA to monitor and document adverse action proceedings and to advise on credit inquiries. The following routine uses also apply:

a. In a legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To the Office of Management and Budget in connection with reviewing private relief legislation at any stage of the coordination and clearance process.

i. To the Department of Treasury and/or banking institutions so that payments may be made by electronic funds transfer (EFT).

j. To the Department of Treasury so claims can be collected through cross servicing, Treasury Offset Program or the Centralized Salary Offset Program.

k. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's effort to respond to the suspected or confirmed compromise and prevent, minimize, or remedy such harm.

POLICIES AND PRACTICES FOR STORING, RETRIEVING, ACCESSING, RETAINING, AND DISPOSING OF RECORDS IN THE SYSTEM:

STORAGE:

Paper records are maintained in file folders and/or boxes and stored in filing cabinets or file room until archived at NARA, or in electronic form in computers.

RETRIEVABILITY:

Records are retrieved by name or by identifying number.

SAFEGUARDS:

Records are stored in guarded buildings and/or in areas controlled by authorized personnel. Computer files are protected by the use of passwords and other appropriate security measures.

RETENTION AND DISPOSAL:

Disposition of records is in accordance with the Handbook, GSA Records Maintenance and Disposition System (CIO P 1820.1).

SYSTEM MANAGER AND ADDRESS:

Deputy Chief Financial Officer, Office of Financial Policy and Operations, General Services Administration, 1800 F Street, NW., Washington, DC 20405.

NOTIFICATION PROCEDURE:

Individuals may obtain information about whether they are part of this system of records from the system manager at the above address.

RECORD ACCESS PROCEDURES:

Requests to access records should be directed to the system manager at the above address. Inquiries should provide, as appropriate, full name, Social Security number, vendor number, address, telephone number, and the dates and transactions giving rise to the record. For identification requirements, refer to the agency regulations in 41 CFR part 105-64.

CONTESTING RECORD PROCEDURES:

GSA rules for access to records, and for contesting the contents and appealing initial determinations are provided in 41 CFR part 105-64.

RECORD SOURCE CATEGORIES:

The individuals themselves, employees, other agencies, management officials, and non-Federal sources such as private firms.

[FR Doc. E8-8932 Filed 4-24-08; 8:45 am]

BILLING CODE 6820-34-P